DEPARTMENT OF DEFENSE

Office of the Secretary

[Transmittal Nos. 11-17]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 11-17 with attached transmittal, policy justification, and Sensitivity of Technology.

Dated: September 23, 2011.
Aaron Siegel,
Alternate OSD Federal Register Liaison Officer, Department of Defense.

BILLING CODE 5001-06-P

BILLING CODE 5001-06-C

Transmittal No. 11-17

Notice of Proposed Issuance of Letter of Offer Pursuant to Section 36(b)(1) of the Arms Export Control Act, as Amended

(i) Prospective Purchaser: United Arab Emirates.

(ii) Total Estimated Value:

Major Defense Equipment * | $27 million.
Other | 374 million.
Total | 401 million.
* As defined in Section 47(6) of the Arms Export Control Act.

(iii) Description and Quantity or Quantities of Articles or Services under Consideration for Purchase: 107 Link 16 Multifunctional Information Distribution System/Low Volume Terminals (MIDS/LVT) to be installed on the United Arab Emirates' F-16 aircraft and ground command and control sites, engineering/integration services, aircraft modification and installation, spare and repair parts, support and test equipment, repair and return support, training equipment and personnel training, U.S. Government and contractor logistics, engineering and technical support, interface with ground command and control centers and ground repeater sites, and other related elements of program support.

(iv) Military Department: Air Force (QAE).

(v) Prior Related Cases, if any: FMS Case SAA-$113.8M-24Aug00.

(vi) Sales Commission, Fee, etc., Paid, Offered, or Agreed to be Paid: None.

(vii) Sensitivity of Technology Contained in the Defense Article or Defense Services Proposed to be Sold: See Attached Annex.

(viii) Date Report Delivered to Congress: 21 Sep 2011.

Policy Justification

United Arab Emirates—MIDS/LVT LINK 16 Terminals

The Government of the United Arab Emirates (UAE) has requested a possible sale of 107 Link 16 Multifunctional Information Distribution System/Low Volume Terminals (MIDS/LVT) to be installed on the United Arab Emirates F-16 aircraft and ground command and control sites, engineering/integration services, aircraft modification and installation, testing, spare and repair parts, support equipment, repair and return support, personnel training, contractor engineering and technical support, interface with ground command and control centers and ground repeater sites, and other related elements of program support. The estimated cost is $401 million.

This proposed sale will contribute to the foreign policy and national security of the United States by helping to improve the security of a friendly country that has been, and continues to be an important force for political stability and economic progress in the Middle East.

The MIDS terminal will increase pilot operational effectiveness by at-a-glance portrayal of targets, threats, and friendly forces on an easy-to-understand relative position display. This proposed system will increase combat effectiveness while reducing the threat of friendly fire. The system will foster interoperability with the U.S. Air Force and other countries. The MIDS/LVT will provide allied forces greater situational awareness in any coalition operation. The United Arab Emirates will have no difficulty absorbing this additional capability into its Air Force.

The proposed sale of this weapon system will not alter the basic military balance in the region.

There are several manufacturers of the Link 16 MIDS-LVT. A prime contractor will be selected during the negotiating process. There are no known offset agreements proposed in connection with this potential sale.

Implementation of this proposed sale will require the assignment of additional U.S. Government and contractor representatives to the UAE. The number of U.S. Government and contractor representatives will be determined in joint negotiations as the program proceeds through the development, production, and equipment installation phases.

There will be no adverse impact on U.S. defense readiness as a result of this proposed sale.

Transmittal No. 11-17

Notice of Proposed Issuance of Letter of Offer Pursuant to Section 36(b)(1) of the Arms Export Control Act

Annex

Item No. vii

(vii) Sensitivity of Technology:

1. The Multifunctional Information Distribution System/Low Volume Terminals (MIDS-LVT) Communication Security (COMSEC) device provides improved situational awareness and sensor cueing in support of air superiority and interdiction missions. The Link 16 tactical data link provides networking with other Link 16-capable aircraft, command, and control systems. The MIDS/LVT and MIDS On Ship Terminal hardware, publications, performance specifications, operational capability, parameters, vulnerabilities to countermeasures, and software documentation are classified Confidential. The classified information to be provided consists of that which is necessary for the operation, maintenance, and repair (through intermediate level) of the data link terminal, installed systems, and related software.

2. If a technologically advanced adversary were to obtain knowledge of the specific hardware and software elements, the information could be used to develop countermeasures or equivalent systems which might reduce weapon system effectiveness or be used in the development of a system with similar or advanced capabilities.

[FR Doc. 2011-25016 Filed 9-28-11; 8:45 am]

BILLING CODE 5001-06-P